DEPARTMENT OF COMMERCE

National Oceanic and Atmospheric Administration

RIN 0648-XC933

Caribbean Fishery Management Council; Public Meetings

AGENCY: National Marine Fisheries Service (NMFS), National Oceanic and Atmospheric Administration (NOAA), Commerce.

ACTION: Notice of public meetings.

SUMMARY: The Caribbean Fishery Management Council's (Council) Scientific and Statistical Committee (SSC) will hold meetings.

DATES: The SSC meetings will be held on November 12-14, 2013.

ADDRESSES: The meetings will be held at the Caribbean Fishery Management Council Headquarters, located at 270 Muñoz Rivera Avenue, 4th Floor, Suite 401, San Juan, Puerto Rico 00918.

FOR FURTHER INFORMATION CONTACT: Caribbean Fishery Management Council, 270 Muñoz Rivera Avenue, Suite 401, San Juan, Puerto Rico 00918, telephone (787) 766-5926.

SUPPLEMENTARY INFORMATION: The SSC will meet to discuss the items contained in the following agenda:

November 12, 2013—9 a.m. to 5 p.m.

—Call to order

—Adoption of Agenda

—ACL Overages: Are These Due to Reporting Artifact or Actual Catch?

—SEFSC/SERO Data Update

—Recent Years (2010-2012)

—Data Set (years 1999-2012 for USVI; 1980-2012 for Puerto Rico)

—Reporting Changes

November 13, 2013—9 a.m. to 5 p.m.

—Island-Based Management

—SEFSC Data Review of Non-Federally Managed Species

—Commercial

—Recreational

—TIP

—Other

—Species Identification and Determination of Data Availability

—Potential Actions for Island-Based FMPs

—Timeline and Strategy for Updating ACLs for all FMUs

—Red Hind ACL Adjustment, Consideration of Olsen/Nowlis Analyses as per CFMC Motion

November 14, 2013—9 a.m. to 5 p.m.

—Economic model for allocating time of the year for closures due to ACL “overages”

—OFL to ACL Reduction Control Rule

—Use of Overfished Status in Addition to Overfishing Status

—Percent Reduction Values

—Other Business

—Adjourn Meeting

The SSC will convene on November 12, 2013, from 9 a.m. until 5 p.m., on November 13, 2013, from 9 a.m. to 5 p.m., and on November 14, 2013, from 9 a.m. to 5 p.m.

The meetings are open to the public, and will be conducted in English.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Authority: 16 U.S.C. 1801 et seq.

Dated: October 23, 2013.
Tracey L. Thompson,
Acting Deputy Director, Office of Sustainable Fisheries, National Marine Fisheries Service.

[FR Doc. 2013-25328 Filed 10-25-13; 8:45 am]

BILLING CODE 3510-22-P